DEPARTMENT OF COMMERCE

National Oceanic and Atmospheric Administration

ENVIRONMENTAL PROTECTION AGENCY

Coastal Nonpoint Pollution Control Program: Proposed Findings Document, Environmental Assessment, and Finding of No Significant Impact

AGENCY: National Oceanic and Atmospheric Administration, U.S. Department of Commerce, and the U.S. Environmental Protection Agency.

ACTION: Notice of availability of Proposed Findings Document, Environmental Assessment, and Finding of No Significant Impact on conditional approval of coastal nonpoint pollution control program for Minnesota.

SUMMARY: Notice is hereby given of the availability of the Proposed Findings Document, Environmental Assessment (EA), and Finding of No Significant Impact for Minnesota. Coastal States and Territories were required to submit their coastal nonpoint programs to the National Oceanic and Atmospheric Administration (NOAA) and the U.S. Environmental Protection Agency (EPA) for approval. The Findings Document was prepared by NOAA and EPA to provide the rationale for the agencies' decision to approve each State and Territory coastal nonpoint pollution control program. Section 6217 of the Coastal Zone Act Reauthorization Amendments (CZARA), 16 U.S.C. section 1455b, requires States and Territories with coastal zone management programs that have received approval under section 306 of the Coastal Zone Management Act to develop and implement coastal nonpoint pollution control programs. The EA was prepared by NOAA, pursuant to the National Environmental Policy Act (NEPA), 42 U.S.C. 4321 et seq., to assess the environmental impacts associated with the approval of the coastal nonpoint pollution control program submitted to NOAA and EPA by Minnesota.

NOAA and EPA have proposed to approve, with conditions, the coastal nonpoint pollution control program submitted by Minnesota. The requirements of 40 CFR parts 1500-1508 Council on Environmental Quality (CEQ) regulations to implement NEPA apply to the preparation of the Environmental Assessment. Specifically, 40 CFR 1506.6 requires agencies to provide public notice of the availability of environmental documents. This notice is part of NOAA's action to comply with this requirement.

Copies of the Proposed Findings Document, EA, and Finding of No Significant Impact may be found on the NOAA Web site at http://www.ocrm.nos.noaa.gov/czm/6217/ or may be obtained upon request from: Helen Farr, Coastal Programs Division (N/ORM3), Office of Ocean and Coastal Resource Management, NOS, NOAA, 1305 East-West Highway, Silver Spring, Maryland, 20910, phone (301) 713-3155, x150, e-mail helen.farr@noaa.gov.

DATES: Individuals or organizations wishing to submit comments on the proposed Findings Document or EA should do so by April 16, 2003.

ADDRESSES: Comments should be made to: John King, Acting Chief, Coastal Programs Division (N/ORM3), Office of Ocean and Coastal Resource Management, NOS, NOAA, 1305 East-West Highway, Silver Spring, Maryland 20910, phone (301) 713-3155, x188, e-mail john.king@noaa.gov.

FOR FURTHER INFORMATION CONTACT: Helen Farr, Coastal Programs Division (N/ORM3), Office of Ocean and Coastal Resource Management, NOS, NOAA, 1305 East-West Highway, Silver Spring, Maryland 20910, phone (301) 713-3155, x150, e-mail helen.farr@noaa.gov.

(Federal Domestic Assistance Catalog 11.419 Coastal Zone Management Program Administration)
Dated: March 5, 2003.
Jamison S. Hawkins,
Acting Assistant Administrator for Ocean Services and Coastal Zone Management, National Oceanic and Atmospheric Administration.
G. Tracy Mehan III,
Assistant Administrator, Office of Water, Environmental Protection Agency.

[FR Doc. 03-6249 Filed 3-14-03; 8:45 am]

BILLING CODE 3510-08-M